DEPARTMENT OF COMMERCE

National Oceanic and Atmospheric Administration

50 CFR Part 660

[Docket No. 070430095-7095-01]

RIN 0648-XC77

Fisheries Off West Coast States and in the Western Pacific; Modifications of the West Coast Commercial Salmon Fishery; Inseason Action #10 and #11.

AGENCY: National Marine Fisheries Service (NMFS), National Oceanic and Atmospheric Administration (NOAA), Commerce.

ACTION: Modification of fishing seasons, landing and possession limits; request for comments.

SUMMARY: NOAA Fisheries announces two inseason actions in the ocean salmon fisheries. Inseason action #10 modified the recreational fishery from Queets River, Washington, to Cape Falcon, Oregon (Westport and Columbia River subareas)and inseason action #11 modified the commercial fishery from the Oregon-California border to Humboldt South Jetty, California (California KMZ subarea). Inseason action #10 transferred 10000 coho from the Westport subarea to the Columbia River subarea with a resulting increase in the Columbia river subarea coho quota of 8400. Inseason action #11 closed the California KMZ subarea to ocean salmon fishing effective 11:59 p.m. Wednesday, September 12, 2007. All other restrictions and regulations remained in effect as announced for the 2007 ocean salmon fisheries and previous inseason actions.

DATES: Inseason action #10 was effective at 0001 hours local time (l.t.) Sunday, September 2, 2007. Inseason action #9 was effective at 11:59 l.t. Wednesday, September 12, 2007.

Comments will be accepted through October 16, 2007.

ADDRESSES: Comments on these actions must be mailed to D. Robert Lohn, Regional Administrator, Northwest Region, NMFS, 7600 Sand Point Way N.E., Bldg. 1, Seattle, WA 98115-0070; or faxed to 206-526-6376. Comments can also be submitted via e-mail at the 2007salmonIA89.nwr@noaa.gov address, or on the internet at the Federal eRulemaking Portal: http://www.regulations.gov. Follow the instructions for submitting comments, and include 0648-XC71 in the subject line of the message. Information relevant to this document is available for public review during business hours at the Office of the Regional Administrator, Northwest Region, NMFS.

FOR FURTHER INFORMATION CONTACT: Sarah McAvinchey 206-526-4323.

SUPPLEMENTARY INFORMATION: In the 2007 annual management measures for ocean salmon fisheries (72 FR 24539, May 3, 2007), NMFS announced the recreational fisheries from Queets River, Washington, to Cape Falcon, Oregon and commercial fisheries from the Oregon-California border to Humboldt South Jetty. The recreational fishery in the Westport subarea had a 43,510 marked coho subarea quota. The recreational fishery in the Columbia River subarea had a 58,800 marked coho subarea quota. The commercial fishery in the California KMZ subarea was open September 10 through the earlier of September 30, or the attainment of the 6,000 Chinook quota.

On August 30, 2007, for inseason action #10 and September 12, 2007, for #11, the Regional Administrator (RA) consulted with representatives of the Pacific Fishery Management Council, Washington Department of Fish and Wildlife, Oregon Department of Fish and Wildlife and California Department of Fish and Game. Information related to catch to date, Chinook and coho catch rates, and effort data were reported. Inseason action #10 was taken because the coho quota in the Columbia river subarea was projected to be met and in order to operate the fishery within the 2007 regulations a transfer from the Westport area was necessary. Inseason action #11 was taken because catch data indicated the quota was projected to be met well before the closing date in the area. The intent of these actions was to provide the opportunity for the full quota to be taken within the scheduled season.

As a result, on August 30, 2007, for inseason #10 and September 12, 2007, for inseason #11, the states recommended, and the RA concurred that inseason action #8 would be effective Sunday, September 23, 2007, with a with a transfer of 10,000 coho from the Westport subarea resulting in an increase in the Columbia River subarea quota of 8,400. This modified the Westport subarea quota to 28,510 and the Columbia River subarea quota to 71,450. Inseason action #11 closed the area from the U.S.-Canada border to Humboldt South Jetty, California to commercial ocean salmon fishing. Modification in quota and/or fishing seasons is authorized by regulations at 50 CFR 660.409(b)(1)(I).

The RA determined that the best available information indicated that the catch and effort data, and projections, supported the above inseason actions recommended by the states. The states manage the fisheries in state waters adjacent to the areas of the U.S. exclusive economic zone in accordance with these Federal actions. As provided by the inseason notice procedures of 50 CFR 660.411, actual notice of the described regulatory actions was given, prior to the date the action was effective, by telephone hotline number 206-526-6667 and 800-662-9825, and by U.S. Coast Guard Notice to Mariners broadcasts on Channel 16 VHF-FM and 2182 kHz. These actions do not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (72 FR 24539, May 3, 2007), the West Coast Salmon Plan, and regulations implementing the West Coast Salmon Plan 50 CFR 660.409 and 660.411. Prior notice and opportunity for public comment was impracticable because NMFS and the state agencies had insufficient time to provide for prior notice and the opportunity for public comment between the time the fishery catch and effort data were collected to determine the extent of the fisheries, and the time the fishery modifications had to be implemented in order to allow fishers access to the available fish at the time the fish were available. The AA also finds good cause to waive the 30-day delay in effectiveness required under U.S.C. 553(d)(3), as a delay in effectiveness of these actions would limit fishers appropriately controlled access to available fish during the scheduled fishing season by unnecessarily restricting the fishery. These actions are authorized by 50 CFR 660.409 and 660.411 and are exempt from review under Executive Order 12866.

Authority: 16 U.S.C. 1801 et seq.

Dated: September 25, 2007.
James P. Burgess,
Acting Director, Office of Sustainable Fisheries, National Marine Fisheries Service.

[FR Doc. E7-19367 Filed 9-28-07; 8:45 am]

BILLING CODE 3510-22-S